DEPARTMENT OF DEFENSE

Department of Navy

Notice of Intent To Grant an Exclusive License; Survival Innovations LLC

AGENCY: Department of the Navy, DoD.

ACTION: Notice.

SUMMARY: The Department of the Navy hereby gives notice of its intent to grant to Survival Innovations, LLC located at 59 Bradley Branch Road, Arden, North Carolina 28704-9472, a revocable, nonassignable, exclusive license throughout the United States (U.S.) in all the fields of use in the Government-Owned invention described in U.S. Patent number 8,056,196 B2 issued on November 15, 2001 entitled “Quick Release Fitting”.

DATES: Anyone wishing to object to the grant of this license must file written objections along with supporting evidence, if any, within fifteen (15) days of the date of this published notice.

ADDRESSES: Written objections are to be filed with the Naval Air Warfare Center Aircraft Division, Technology Transfer Office, Attention Michelle Miedzinski, Code 5.0H, 22473 Millstone Road, Building 505, Room 117, Patuxent River, Maryland 20670.

FOR FURTHER INFORMATION CONTACT: Michelle Miedzinski, 301-342-1133, Naval Air Warfare Center Aircraft Division, 22473 Millstone Road, Building 505, Room 117, Patuxent River, Maryland 20670.

Authority: (35 U.S.C. 207, 37 CFR part 404.)

Dated: February 24, 2015.
N.A. Hagerty-Ford,
Commander, Judge Advocate General's Corps, U.S. Navy, Federal Register Liaison Officer.

[FR Doc. 2015-04331 Filed 3-2-15; 8:45 am]

BILLING CODE 3810-FF-P